DEPARTMENT OF TRANSPORTATION

Maritime Administration

[Docket No. DOT-MARAD 2016 0058]

Request for Comments of a Previously Approved Information Collection

AGENCY: Maritime Administration (MARAD), DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on April 7, 2015 (Federal Register 18706, Vol. 80, No.66).

DATES: Comments must be submitted on or before July 25, 2016.

FOR FURTHER INFORMATION CONTACT: Dr. David Palmer, (516) 726-5707, U.S. Merchant Marine Academy, Kings Point, NY 11024.

SUPPLEMENTARY INFORMATION:

Title: United States Merchant Marine Academy Alumni Survey.

OMB Control Number: 2133-0542.

Type of Request: Renewal of a Previously Approved Information Collection.

Abstract: 46 U.S.C. 51309 authorizes the Academy to confer academic degrees. To maintain the appropriate academic standards, the program must be accredited by the appropriate accreditation body. The survey is part of USMMA's academic accreditation process.

Affected Public: Graduates of the U.S. Merchant Marine Academy.

Form(s): KP2-66-DK1, KP2-67-DK2, KP2-68-DK3, KP2-69-ENG1, KP2-70-ENG2, KP2-71-ENG3.

Estimated Number of Respondents: 600.

Estimated Number of Responses: 600.

Annual Estimated Total Annual Burden Hours: 150.

ADDRESSES: Send comments regarding the burden estimate, including suggestions for reducing the burden, to the Office of Management and Budget, Attention: Desk Officer for the Office of the Secretary of Transportation, 725 17th Street, NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

By Order of the Maritime Administrator.
Dated: June 16, 2016.
T. Mitchell Hudson, Jr.,
Secretary, Maritime Administration.

[FR Doc. 2016-14872 Filed 6-22-16; 8:45 am]

BILLING CODE 4910-81-P